DEPARTMENT OF TRANSPORTATION

Federal Aviation Administration

Notice of Additional Public Comment Period—Notice of Availability of a Draft Environmental Impact Statement (EIS) for the Proposed LaGuardia Access Improvement Project at LaGuardia Airport (LGA), New York City, Queens County, New York

AGENCY: Federal Aviation Administration (FAA), Department of Transportation (DOT).

ACTION: Notice of additional 15-day public comment period for the Draft Environmental Impact Statement for the proposed LaGuardia Access Improvement Project at LaGuardia Airport (LGA), New York City, Queens County, New York.

SUMMARY: This notice provides an additional 15-day public comment period for the Draft Environmental Impact Statement (EIS) for the proposed LaGuardia Airport Access Improvement Project prepared to disclose the potential environmental impacts resulting from the Proposed Action, including real property transactions under the New York State Eminent Domain Procedures Law. This notice announces the extension of the public comment period to solicit public comments on the Draft EIS.

DATES: The public comment period on the Draft EIS started on August 21, 2020 and has been extended to end on October 20, 2020. All comments must be received by no later than 5:00 p.m. Eastern Daylight Time, Tuesday, October 20, 2020.

ADDRESSES: Oral comments on the Draft EIS may be presented by leaving a voicemail at (855) LGA-EIS9 or (855) 542-3479. Written comments on the Draft EIS may be submitted via the following methods:

• Online on the project website at https://www.lgaaccesseis.com/formal-comment.

• Email to comments@lgaaccesseis.com.

• U.S. Mail to Mr. Andrew Brooks, Environmental Program Manager, Eastern Region Office, AEA-610, Federal Aviation Administration, 1 Aviation Plaza, Jamaica, NY 11434.

Comments on the Draft EIS will help FAA arrive at the best possible informed decision about the proposal. If you choose to include your name, address and telephone number, email, or other personal identifying information in your comment, be advised that your entire comment—including your personal identifying information—may be made publicly available at any time. While you can ask us in your comment to withhold your personal identifying information, FAA cannot guarantee that we will be able to do so.

FOR FURTHER INFORMATION CONTACT: Mr. Andrew Brooks, Environmental Program Manager, Eastern Region Office, AEA-610, Federal Aviation Administration, 1 Aviation Plaza, Jamaica, NY 11434. Telephone: 718-553-2511.

SUPPLEMENTARY INFORMATION: This notice continues the public comment period on the Draft EIS for the LaGuardia Airport Access Improvement Project announced in the Notice of Availability of a Draft Environmental Impact Statement (EIS) and Notice of Public Workshops and Hearings for the Proposed LaGuardia Access Improvement Project at LaGuardia Airport (LGA), New York City, Queens County, New York, 85 FR 51142, August 19, 2020.

The Draft EIS was prepared in response to a proposal presented by the Port Authority of New York and New Jersey (Port Authority). The Port Authority operates LGA under a lease agreement with the City of New York. FAA must decide whether to approve, pursuant to 49 U.S.C. 47106 and 47107 relating to the eligibility of the Proposed Action for federal funding under the Airport Improvement Program (AIP) and/or under 49 U.S.C. 40117, as implemented by 14 CFR 158.25, to impose and use passenger facility charge (PFC) revenue collected for the Proposed Action to assist with construction of potentially eligible development items shown on the Airport Layout Plan (ALP). FAA approval of the eligibility for federal funding under AIP or to impose and use PFCs is a Federal action that must comply with NEPA requirements. FAA, as lead federal agency, invited the U.S. Army Corps of Engineers, U.S. Environmental Protection Agency, New York State Department of Environmental Conservation, New York State Department of Transportation, and New York State Office of Parks, Recreation and Historic Preservation to participate as cooperating agencies, which they have accepted, as described under 40 CFR 1501.6(a)(1).

The Draft EIS presents the purpose and need for the Proposed Action, analysis of reasonable alternatives, discussion of impacts for each reasonable alternative, and support appendices. Pursuant to 40 CFR 1502.14(d), the No Action Alternative is also assessed in the Draft EIS as the baseline for comparison purposes. The Proposed Action includes:

• Construction of an above ground fixed guideway automated people mover (APM) system approximately 2.3 miles in length that extends from the future LGA Central Hall Building to the Metropolitan Transportation Authority (MTA) Long Island Rail Road (LIRR) Mets-Willets Point Station and the New York City Transit (NYCT) 7 Line Mets-Willets Point Station;

• construction of two on-Airport APM stations (Central Hall APM Station and East APM Station) and one off-Airport APM station at Willets Point (Willets Point APM Station) that provides connections to the Mets-Willets Point LIRR and NYCT 7 Line stations;

• construction of passenger walkway systems to connect the APM stations to the passenger terminals, parking garages, and ground transportation facilities;

• construction of a multi-level APM operations, maintenance, and storage facility (OMSF) that includes up to 1,000 parking spaces (500 for airport employees, 250 for MTA employees, 50 for APM employees, and 200 for replacement Citi Field parking);

• construction of three traction power substations: One located at the on-Airport East Station, another at-grade west of the proposed Willets Point Station just south of Roosevelt Avenue, and the third at the OMSF to provide power to the APM guideway;

• construction of a 27 kV main substation located adjacent to the OMSF structure on MTA property;

• construction of utilities infrastructure, both new and modified, as needed, to support the Proposed Action, including a permanent stormwater outfall into Flushing Creek and a temporary stormwater outfall into Flushing Creek; and

• acquisition of temporary and permanent easements.

The Proposed Action also includes various connected actions, including: Utility relocation and demolition of certain existing facilities; a temporary MTA bus storage/parking facility; relocation of up to 200 Citi Field parking spaces; demolition and replacement of the Passerelle Bridge; temporary walkway to maintain access between the transit stations and Flushing Meadows-Corona Park; modifications to the MTA LIRR Mets-Willets Point Station, including service changes to the LIRR Port Washington Line; and the relocation of a boat lift, finger piers and connected timber floating dock, Marina office and boatyard facility, boat storage and parking, and operations shed, part of the World's Fair Marina.

FAA provides the following notices:

• Pursuant to 36 CFR 800.8(c) that it is using the NEPA process to notify the public of FAA's finding that the proposed undertaking would adversely affect properties listed or eligible for listing on the National Register of Historic Places and is seeking public comment on the measures proposed to avoid, minimize, or mitigate such effects disclosed in the Draft EIS. A Draft Memorandum of Agreement to resolve adverse effects to historic properties is included in Appendix K.11 of the Draft EIS.

• Pursuant to Section 4(f) of the DOT Act, FAA has prepared a Draft Section 4(f) Evaluation (see Appendix I of the Draft EIS). The Proposed Action would have a significant impact on Section 4(f) resources and is seeking public comments on impacts and proposed mitigation disclosed in Chapter 3.8 of the Draft EIS.

• Pursuant to DOT Order 5610.2(a), DOT Actions to Address Environmental Justice in Minority Populations and Low-Income Populations, the Proposed Action would have a significant impact on minority environmental justice populations and is seeking public comments on impacts and proposed mitigation disclosed in Chapter 3.14 of the Draft EIS.

• Pursuant to Executive Order 11990, Protection of Wetlands, that the Proposed Action would temporarily affect less than 1 acre of jurisdictional wetlands in Flushing Creek and less than 1 acre of temporary and permanent impact in Flushing Bay. Impacts to these aquatic resources are disclosed in Chapter 3.16 of the Draft EIS.

• Pursuant to Executive Order 11988, Floodplain Management that the Proposed Action would not result in a significant encroachment on floodplains. Impacts to floodplains are disclosed in Chapter 3.16 of the Draft EIS.

FAA encourages all interested parties to provide comments concerning the scope and content of the Draft EIS. Comments should be as specific as possible and address the analysis of potential environmental impacts and the adequacy of the assessment of the Proposed Action or merits of its alternatives and the mitigation being considered. Reviewers should organize their participation so that it is meaningful and makes the agency aware of the viewers' interests and concerns using quotations and other specific references to the Draft EIS and related documents. This commenting procedure is intended to ensure that substantive comments and concerns are available to FAA in a timely manner so that FAA has an opportunity to address them. Matters that could have been raised with specificity during the comment period on the Draft EIS may not be considered if they are raised for the first time later in the decision process.

Following the public comment period, FAA will prepare a Final EIS and Record of Decision pursuant to 40 CFR 1503.4(c) [Council of Environmental Quality regulations] and FAA Orders 1050.1F and 5050.4B. The FAA may issue a single document that consists of the Final Environmental Impact Statement and Record of Decision pursuant to 49 U.S.C. 304a(b) unless the FAA determines that statutory criteria or practicability considerations preclude issuance of such a combined document.

Issued in Jamaica, New York, October 2, 2020.
Sukhbir Gill,
Assistant Manager, New York Airport District Office, Airports Division, Eastern Region.

[FR Doc. 2020-22207 Filed 10-6-20; 8:45 am]

BILLING CODE 4910-13-P